DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 17, 2010. Address written comments to Statutory Import Programs Staff, Room 3720, U.S. Department of Commerce, Washington, DC 20230. Applications may be examined between 8:30 a.m. and 5 p.m. at the U.S. Department of Commerce in Room 3720.

Docket Number: 10-010. Applicant: University of Maine System, 16 Central St., Bangor, ME 04401. Instrument: Live Color Cathodoluminescence detector accessory for Scanning Electron Microscope. Manufacturer: Gatan, UK. Intended Use: The instrument will be used to study the morphology and microstructure of primarily geological but also some archaeological and biological materials. Techniques include imaging using three components of light (red, green, blue) split from a panchromatic signal induced in the sample by an incident electron beam inside an SEM. This instrument offers live color detectors, i.e., panchromatic cathodoluminescence detectors in which the intensity of the light across the entire visible spectrum is measured. Justification for Duty-Free Entry: There are no domestic manufacturers of this instrument. Application accepted by Commissioner of Customs: April 27, 2010.

Docket Number: 10-011. Applicant: Washington University in St. Louis, Purchasing Dept., 1 Brookings Drive, Campus Box 1069, St. Louis, MO 63130. Instrument: Electron Microscope. Manufacturer: Japanese Electron-Optics, Limited (JEOL), Japan. Intended Use: This instrument will be used to study a complete range of medically relevant cells, tissues, and molecules and understand the molecular and cellular basis of a wide range of human diseases. The instrument allows for techniques including advanced forms of biological specimen preparation, as well as more classical procedures for fixation, dehydration, plastic embedding and thin-sectioning of biological materials. Justification for Duty-Free Entry: No instruments of same general category are manufactured in the United States. Application accepted by Commissioner of Customs: April 30, 2010.

Docket Number: 10-012. Applicant: California Institute of Technology, 1200 E. California Blvd., M/C 127-72, Pasadena, CA 91125. Instrument: Electron Microscope. Manufacturer: FEI Company, Czech Republic. Intended Use: The instrument will be used to improve researchers' understanding of the structural dynamics of materials like graphite, as well as ultrafast structural changes over time in microscopy. Techniques used with the instrument include imaging, both in real space and using diffraction. Imaging is done using light as opposed to thermal heating or field ionization. Justification for Duty-Free Entry: There are no domestic manufacturers of this type of electron microscope. Application accepted by Commissioner of Customs: May 5, 2010.

Docket Number: 10-013. Applicant: Howard Hughes Medical Institute, 4000 Jones Bridge Road, Chevy Chase, MD 20815. Instrument: Electron Microscope. Manufacturer: FEI Company, Czech Republic. Intended Use: The instrument will be used to examine portions of vertebrate and invertebrate organisms embedded in plastic resins and cut into thin sections mounted on support grids for examination. The objective is to examine, at high resolution, the ultrastructural organization of complex biological structures to help elucidate function. The instrument can be used for 2D and 3D imaging of stained or even unstained, low-contrast samples. The instrument also allows for observation and analyses of samples at both room and liquid-nitrogen temperature. Justification for Duty-Free Entry: There are no domestic manufacturers of this type of electron microscope. Application accepted by Commissioner of Customs: May 12, 2010.

Docket Number: 10-014. Applicant: Howard Hughes Medical Institute, 4000 Jones Bridge Road, Chevy Chase, MD 20815. Instrument: Electron Microscope. Manufacturer: FEI Company, Czech Republic. Intended Use: The instrument will be used to examine portions of vertebrate and invertebrate organisms embedded in plastic resins and cut into thin sections mounted on support grids for examination. The objective is to examine, at high resolution, the ultrastructural organization of complex biological structures to help elucidate function. The instrument can be used for 2D and 3D imaging of stained or even unstained, low-contrast samples. The instrument also allows for observation and analyses of samples at both room and liquid-nitrogen temperature. Justification for Duty-Free Entry: There are no domestic manufacturers of this type of electron microscope. Application accepted by Commissioner of Customs: May 14, 2010.

Docket Number: 10-016. Applicant: United States Geological Survey, 6th Ave. & Kipling St., P.O. Box 25046, MS973, Denver Federal Center, Building 20, Denver, CO 80225. Instrument: Electron Microscope. Manufacturer: FEI Company, Czech Republic. Intended Use: The instrument will be used for the microanalysis of rocks, minerals and other particulate matter. Analyses of the morphology, surface textures, grain boundaries, and other properties of the materials investigated include the use of chemical composition and crystallographic orientation and strain. The low vacuum and low voltage features of the instrument allows for the viewing of hydrated and un-coated samples with minimal sample degradation or alteration. The advantage of this instrument is that it can operate at high vacuum and high acceleration voltages as well as atmospheric pressures and/or low accelerating voltages while still maintaining high resolution and high beam currents. Justification for Duty-Free Entry: There are no domestic manufacturers of this type of electron microscope. Application accepted by Commissioner of Customs: May 18, 2010.

Docket Number: 10-017. Applicant: University of Massachusetts Medical School, Department of Cell Biology, Rm. S7-210, 55 Lake Avenue North, Worcester, MA 01655. Instrument: Electron Microscope. Manufacturer: FEI Company, Czech Republic. Intended Use: The instrument will enable the study of tissue cell structures at high resolution, the recording of images on the Eagle CCD camera, and the observation of cryo-fixed specimens at low temperatures. Justification for Duty-Free Entry: There are no domestic manufacturers of this type of electron microscope. Application accepted by Commissioner of Customs: May 12, 2010.

Docket Number: 10-018. Applicant: Texas Tech University, Department of Mechanical Engineering, 7th Street and Boston Ave., Lubbock, TX 79409-1021. Instrument: Electron Microscope. Manufacturer: Japanese Electron-Optics, Limited (JEOL), Japan. Intended Use: The instrument will be used to probe the crystalline structure of materials at a magnification beyond that required to image dislocation behavior of fully crystalline nanostructured metals. The instrument will provide detailed surface structures and faceting information. Justification for Duty-Free Entry: No instruments of same general category are manufactured in the United States. Application accepted by Commissioner of Customs: May 17, 2010.

Docket Number: 10-020. Applicant: Howard Hughes Medical Institute, 4000 Jones Bridge Road, Chevy Chase, MD 20815. Instrument: Electron Microscope. Manufacturer: FEI Company, Czech Republic. Intended Use: The instrument will be used to examine portions of vertebrate and invertebrate organisms embedded in plastic resins and cut into thin sections mounted on support grids for examination. The objective is to examine, at high resolution, the ultrastructural organization of complex biological structures to help elucidate function. The instrument can be used for 2D and 3D imaging of stained or even unstained, low-contrast samples. The instrument also allows for observation and analyses of samples at both room and liquid-nitrogen temperature. Justification for Duty-Free Entry: There are no domestic manufacturers of this type of electron microscope. Application accepted by Commissioner of Customs: May 12, 2010.

Dated: May 24, 2010.
Christopher Cassel,
Director, IA Subsidies Enforcement Office.

[FR Doc. 2010-12962 Filed 5-27-10; 8:45 am]

BILLING CODE 3510-DS-P